TENNESSEE VALLEY AUTHORITY

Environmental Assessment or Environmental Impact Statement on Proposal to Transfer 710 Acres at Site of the Previously Proposed Hartsville Nuclear Plant, Trousdale and Smith Counties, Tennessee

AGENCY: Tennessee Valley Authority (TVA).

ACTION: Notice of Intent.

SUMMARY: Members of the local communities in Trousdale and Smith Counties, Tennessee have requested TVA to transfer 710 acres (about 287 hectares) of land within the site of the formerly proposed Hartsville Nuclear Plant to a public/private entity for industrial and office development. TVA will prepare an environmental assessment (EA) or environmental impact statement (EIS) that assesses the impacts of the transfer. We are inviting comments concerning the scope of the issues and the alternatives that should be addressed in the EA/EIS.

TVA will begin by developing an EA for the proposed transfer. In the event that information gathered or analyses conducted in preparing this EA indicate that the proposal could have a significant impact on the environment, the agency will prepare an EIS. If TVA decides to prepare an EIS, the scoping process now underway for the EA will be used for the EIS and will not be repeated.

How and When to Comment: Send written comments to Peter K. Scheffler, Tennessee Valley Authority, 400 West Summit Hill Drive, Knoxville, Tennessee, 37902-1499. Send comments by e-mail to pkscheffler@tva.gov. You may comment by telephone to TVA's automated voice mail system at 1-800-TVA-LAND (882-5263). Mailed comments should be postmarked no later than 30 days following publication of this notice in the Federal Register to ensure consideration. E-mailed and telephoned comments should be made no later than 30 days following publication to ensure consideration.

FOR FURTHER INFORMATION CONTACT: You can find information on TVA's web site at www.tva.gov/environment/reports. For basic project information you can also contact Michael A. Montgomery, Tennessee Valley Authority, P.O. Box 292409, Nashville, TN 37229-2409; 615/232-6053,; mamontgomery@tva.gov. For information on the environmental review, you can contact Charles L. McEntyre, Tennessee Valley Authority, 1101 Market Street, HB 2A, Chattanooga, TN 37402-2801; 423/751-4123; clmcentyre@tva.gov.

SUPPLEMENTARY INFORMATION:

Background

TVA acquired 1,940 acres (about 785 hectares) of land in Trousdale and Smith Counties, Tennessee, in the late 1960s and early 1970s as a site on which to construct a nuclear power plant. The site is located on the Cumberland River on the north shore of Old Hickory Reservoir at approximate river mile 285. The town of Hartsville is about 5 miles (8 kilometers) northwest of the site, and Nashville is about 40 miles (about 64 kilometers) southwest.

TVA prepared an EIS for the proposed nuclear plant on the proposed nuclear plant and made it available to the public on May 23, 1975. Following completion of the EIS, TVA began construction of the plant, but did not complete it. TVA has used some of the buildings on the site for storage and has leased other buildings for industrial activity.

In the years since the plant construction was discontinued, the pace of economic growth in the counties around the site has been slow, and high unemployment and low wages continue to be problems. Members of the local communities have seen the largely undeveloped site of the proposed nuclear plant as a suitable site for an industrial and office park which would help remedy the area's economic problems. On June 5, 2000, members of the local communities and elected representatives met with TVA to present the idea of transferring 710 acres (about 287 hectares) of the site to a public/private entity for the park. The requested property lies along the western edge of the nuclear plant site and straddles the Trousdale/Smith County line. At the request of the communities, TVA prepared a conceptual plan to evaluate the feasibility of the requested property as an industrial/office park from an engineering standpoint. A copy of the conceptual plan is shown on TVA's web site at www.tva.gov/environment/reports and can be obtained from Mr. Montgomery or Mr. McEntyre.

Proposed Issues To Be Addressed

The EA/EIS will describe and evaluate the impact of the proposed industrial/business park on the existing natural, cultural, and socieconomic resources and conditions in the project vicinity. Specific issues will include air quality, water quality, terrestrial and aquatic life, endangered and threatened species, wetlands, floodplains, historic and archaeological resources, (particularly historic properties listed or eligible for listing in the National Register of Historic Places), jobs, traffic, and existing use of the park site for hunting and business activity.

Alternatives

The EA/EIS will evaluate the impact of reasonable alternatives. The alternatives now being contemplated are the transfer of the 710 acres as requested by the communities, the transfer of individual tracts when requested for specific purposes, and the no-action alternative. TVA will take into account the potential impacts of the alternatives on the natural, cultural, and socioeconomic resources and conditions, together with engineering and economic considerations, to select a preferred alternative. The preliminary identification of reasonable alternatives and environmental issues in this notice is not meant to be exhaustive or final.

Scoping Process

Scoping, which is integral to the EA/EIS process, ensures that: (1) All pertinent issues are identified early and properly studied, (2) issues of little significance do not consume substantial time and effort, (3) the draft EA/EIS is thorough and balanced, and (4) delays caused by an inadequate EA/EIS are avoided. TVA's NEPA procedures require that the scoping process begin soon after a decision is made to prepare an EA or EIS, to provide an early and open process for determining the scope and for identifying the significant issues related to a proposed action.

The scoping process for this review includes specific opportunities for both public and interagency input. In addition to this notice requesting written comments, TVA is requesting comments by publishing a notice in area newspaper and is placing a notice on the TVA web site at www.tva.gov/environment/reports. Also, TVA is distributing information to and requesting comments from the owners and operators of businesses leasing buildings on the site, all persons who have requested permits for hunting on the site, the landowners from whom TVA bought of the site (who have a life estates for agricultural use of the tracts they sold), and other parties who have expressed interest in similar TVA activities in middle Tennessee. The public is being asked to submit comments on the scope of this EA/EIS no later than 30 days after publication of this notice or they receive information through one of the other means.

TVA is also requesting comments from federal, state, and regional agencies, and Indian tribes. The federal agencies identified at this time for inclusion in the interagency scoping are the U.S. Environmental Protection Agency, U.S. Army Corps of Engineers, and the U.S. Fish and Wildlife Service. State agencies include the Tennessee Department of Economic and Community Development, Tennessee Department of Environment and Conservation, Tennessee Wildlife Resources Agency, the Tennessee State Historic Preservation Officer, and the Tennessee Commission of Indian Affairs. Regional agencies include the Mid-Cumberland Council of Governments, Trousdale County, Smith County, and the towns of Hartsville and Carthage. Indian tribes include the Eastern Band and United Keetoowah Band of the Cherokee Indians, the Cherokee Nation of Oklahoma, the Muscogee (Creek) Nation of Oklahoma, the Absentee-Shawnee Tribe of Oklahoma, the Eastern Shawnee Tribe of Oklahoma, and the Poarch Band of Creek Indians. Other agencies, as appropriate and identified, will also be included.

TVA will develop and maintain a mailing list of agencies, organizations, and other interested parties who have requested to be included in the process. TVA will also maintain a public reference file at its Highland Ridge Tower offices, 535 Marriott Drive, Nashville, Tennessee, 37214, which will include copies of all written correspondence, documents, meeting notices, agendas and summaries, etc.

After consideration of the scoping comments, TVA will develop the sets of environmental issues and alternatives to be addressed in the EA/EIS. Once the analysis of the environmental consequences of each alternative is completed, TVA will issue a draft EA/EIS for public review and comment. TVA will issue public notices announcing the availability and requesting comments in area newspapers, post information on its web site at www.tva.gov/environment/reports, and provide a copy to those who request one in their comments on the scope. If an EIS is prepared, a Notice of Availability of the draft EIS will also be published in the Federal Register. TVA anticipates completing the draft EA/EIS in early 2001.

If an EA is prepared, a public information meeting on the draft EA/EIS will be held if adequate public interest in such a meeting has been demonstrated. If an EIS is prepared, a public information meeting on the draft will be held, with the schedule to be announced in the Notice of Availability, the newspapers, TVA's web site, and information accompanying the copies of the EIS sent to the public.

TVA is providing this notice pursuant to the Council on Environmental Quality's regulations (40 CFR 1500 to 1508), TVA's procedures implementing the National Environmental Policy Act, and Section 106 of the National Historic Preservation Act and its implementing regulations (36 CFR Part 800).

Dated: December 20, 2000.
Kathryn J. Jackson,
Executive Vice President, River System Operations & Environment.

[FR Doc. 00-32934 Filed 12-26-00; 8:45 am]

BILLING CODE 8120-08-P